DEPARTMENT OF TRANSPORTATION

Federal Aviation Administration

14 CFR Part 39

[Docket No. FAA-2010-0031; Directorate Identifier 2009-NM-266-AD; Amendment 39-16192; AD 2010-03-08]

RIN 2120-AA64

Airworthiness Directives; The Boeing Company Model 767-200, -300, and -300F Series Airplanes

AGENCY: Federal Aviation Administration (FAA), Department of Transportation (DOT).

ACTION: Final rule; request for comments.

SUMMARY: The FAA is superseding an existing airworthiness directive (AD) that applies to certain Model 767-200, -300, and -300F series airplanes. The existing AD currently requires repetitive detailed and eddy current inspections to detect cracks or corrosion of certain midspar fuse pins, and corrective actions if necessary. That AD also provides optional terminating action, which ends the repetitive inspections. This new AD requires reduced intervals for certain repetitive inspections. This AD results from a report of a fractured midspar fuse pin. We are issuing this AD to prevent loss of the strut and engine due to corrosion damage and cracking of both fuse pins on the same strut.

DATES: This AD becomes effective February 19, 2010.

The Director of the Federal Register approved the incorporation by reference of certain publications listed in the AD as of February 19, 2010.

The Director of the Federal Register previously approved the incorporation by reference of a certain publication listed in the AD as of March 5, 2001 (66 FR 8085, January 29, 2001).

The Director of the Federal Register previously approved the incorporation by reference of a certain other publication listed in the AD as of October 17, 2000 (65 FR 58641, October 2, 2000).

We must receive any comments on this AD by March 22, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Berhane Alazar, Aerospace Engineer, Airframe Branch, ANM-120S, FAA, Seattle Aircraft Certification Office, 1601 Lind Avenue, SW., Renton, Washington 98057-3356; telephone (425) 917-6577; fax (425) 917-6590.

SUPPLEMENTARY INFORMATION:

Discussion

On January 22, 2003, we issued AD 2003-03-02, amendment 39-13026 (68 FR 4374, January 29, 2003). That AD applies to certain Model 767-200, -300, and -300F airplanes. That AD requires repetitive detailed and eddy current inspections to detect cracks and corrosion of certain midspar fuse pins, and corrective actions if necessary. That AD also provides optional terminating action, which ends the repetitive inspections. That AD resulted from a report of a fractured outboard midspar fuse pin (part number (P/N) 311T3102-1) of the left engine pylon, which was found during a scheduled maintenance visit. The fuse pin also had corrosion on the pin and within the bore. The actions specified in that AD are intended to prevent loss of the strut and engine due to corrosion damage and cracking of both fuse pins on the same strut.

Actions Since AD Was Issued

Since we issued that AD, we received a report that a fractured midspar fuse pin was found on a Model 767-300 airplane with CF6-80C2 engines. The airplane had accumulated 16,054 flight cycles and neither Boeing Service Bulletin 767-54-0069 (required by AD 2000-19-09, amendment 39-11910; AD 2001-02-07, amendment 39-12091; and AD 2001-06-12, amendment 39-12159) nor Boeing Service Bulletin 767-54-0081 (required by AD 2001-06-12) had been incorporated. (ADs 2001-02-07 and 2001-06-12 have been superseded by AD 2004-16-12, amendment 39-13768.) The fractured midspar fuse pin was found during routine maintenance on the outboard side of the number one pylon, prior to the next scheduled midspar fuse pin inspection in accordance with Boeing Alert Service Bulletin 767-54A0062, Revision 5, dated November 11, 2002 (referenced in AD 2003-03-02). Further inspection revealed a cracked midspar fuse pin on the inboard side of the number one pylon. Subsequent inspection of both midspar fuse pins revealed discrepant circumferential machining grooves on the fuse pin main bore surface, in addition to longitudinal cracks. In addition, eddy current inspection of the midspar fuse pins in accordance with the requirements of Revision 5 of this service bulletin will not reveal the maximum allowable roughness of the fuse pin main bore surface. Metallurgical analysis determined the fuse pin fracture or crack origins coincided with the discrepant machining groove locations, in all cases. Stresses due to pin ovalization contributed to the longitudinal cracking of the midspar fuse pins.

Relevant Service Information

We have reviewed Boeing Alert Service Bulletin 767-54A0062, Revision 6, dated November 5, 2009. The service bulletin describes procedures similar to those in Boeing Alert Service Bulletin 767-54A0062, Revision 5, dated November 11, 2002 (referred to in AD 2003-03-02 as a method of accomplishing the required actions), but with reduced repetitive inspection intervals. Revision 6 of this service bulletin does provide optional corrective actions for certain conditions; a repair of the midspar fuse pin may be done instead of replacing the pin. The repair includes contacting Boeing for repair instructions and doing the repair. Revision 6 of this service bulletin also revises the corrective actions for corrosion by basing the condition on corrosion found on a non-critical surface or any surface other than a non-critical surface.

FAA's Determination and Requirements of This AD

The unsafe condition described previously is likely to exist or develop on other airplanes of the same type design. For this reason, we are issuing this AD to supersede AD 2003-03-02. This new AD retains certain requirements of the existing AD. This AD also reduces intervals for repeat inspections and requires accomplishing the actions specified in Boeing Alert Service Bulletin 767-54A0062, Revision 6, dated November 5, 2009, described previously, except as discussed under “Difference Between the AD and the Service Bulletin.”

Difference Between the AD and the Service Bulletin

Boeing Alert Service Bulletin 767-54A0062, Revision 6, dated November 5, 2009, specifies to “Contact Boeing for repair instructions * * *.” This AD would require repairing in accordance with a method approved by the Manager, Seattle Aircraft Certification Office, FAA.

Change to Existing AD

This AD would retain certain requirements of AD 2003-03-02. Since AD 2003-03-02 was issued, the AD format has been revised, and certain paragraphs have been rearranged. As a result, the corresponding paragraph identifiers have changed in this AD, as listed in the following table:

Revised Paragraph Identifiers
Requirement in AD 2003-03-02 | Corresponding requirement in this AD
paragraph (h) | paragraph (g)
paragraph (i) | paragraph (h)
paragraph (j) | paragraph (i)
paragraph (k) | paragraph (j)
paragraph (l) | paragraph (k)
paragraph (m) | paragraph (l)
paragraph (n) | paragraph (m)

FAA's Justification and Determination of the Effective Date

A fractured midspar fuse pin was discovered after the issuance of AD 2003-03-02. Fractured, corroded, or cracked midspar fuse pins could lead to the separation of the strut and engine from the airplane. Because of our requirement to promote safe flight of civil aircraft and thus, the critical need to assure the structural integrity of the engine strut and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0031; Directorate Identifier 2009-NM-266-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13026 (68 FR 4374, January 29, 2003) and by adding the following new airworthiness directive (AD):

2010-03-08 The Boeing Company: Amendment 39-16192. Docket No. FAA-2010-0031; Directorate Identifier 2009-NM-266-AD.

Effective Date

(a) This AD becomes effective February 19, 2010.

Affected ADs

(b) This AD supersedes AD 2003-03-02, Amendment 39-13026. In addition, AD 2000-19-09, Amendment 39-11910; AD 2001-02-07, Amendment 39-12091; and AD 2001-06-12, Amendment 39-12159; affect this AD.

Applicability

(c) This AD applies to The Boeing Company Model 767-200, -300, and -300F series airplanes, certificated in any category; as identified in Boeing Alert Service Bulletin 767-54A0062, Revision 6, dated November 5, 2009.

Subject

(d) Air Transport Association (ATA) of America Code 54: Nacelles/Pylons.

Unsafe Condition

(e) This AD results from a report of a fractured midspar fuse pin. The Federal Aviation Administration is issuing this AD to prevent loss of the strut and engine due to corrosion damage and cracking of both fuse pins on the same strut.

Compliance

(f) You are responsible for having the actions required by this AD performed within the compliance times specified, unless the actions have already been done.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (r)(1) of this AD. The request should include an assessment of the effect of the modification, alteration, or repair on the unsafe condition addressed by this AD; and, if the unsafe condition has not been eliminated, the request should include specific proposed actions to address it.

Restatement of Certain Requirements of AD 2003-03-02, With New Service Information

Initial and Repetitive Inspections

(g) For airplanes having midspar fuse pins, part numbers 311T3102-1, 311T3102-2, 311T3102-3, 311T3102-4, 311T2102-1 or 311T2102-2: Do a detailed inspection and an eddy current inspection for cracks and corrosion, per Boeing Alert Service Bulletin 767-54A0062, Revision 5, dated November 11, 2002; or in accordance with the Accomplishment Instructions of Boeing Alert Service Bulletin 767-54A0062, Revision 6, dated November 5, 2009. Do the inspections at the later of the times specified in paragraphs (g)(1) and (g)(2) of this AD. Repeat the inspections at least every 3,000 landings or 5 years, whichever is first, except as required by paragraph (n) of this AD. After the effective date of this AD, Boeing Alert Service Bulletin 767-54A0062, Revision 6, dated November 5, 2009, must be used. Accomplishing the inspection required by paragraph (n) of this AD terminates the repetitive inspections required by this AD.

(1) Before the accumulation of 5,000 total landings on the fuse pin or within 5 years after fuse pin installation, whichever is first.

(2) Within 30 days after February 13, 2003.

Corrective Action

(h) If any crack or corrosion is found during any inspection required by paragraph (g) of this AD, before further flight, do the actions required by paragraph (h)(1) or (h)(2) of this AD, as applicable, per Boeing Alert Service Bulletin 767-54A0062, Revision 5, dated November 11, 2002, or do the applicable actions required by paragraph (p) of this AD. As of the effective date of this AD, if any crack or corrosion is found during any inspection required by paragraph (g) of this AD, before further flight, do the applicable actions required by paragraph (p) of this AD.

(1) If any crack is found, replace the midspar fuse pin with a new fuse pin.

(2) If any corrosion is found, repair the midspar fuse pin, or replace with a new fuse pin.

Repetitive Inspections

(i) For airplanes identified in paragraph (g) of this AD, and on which a new midspar fuse pin was installed before the effective date of this AD: After the installation of a new midspar fuse pin, inspect the new fuse pin per paragraph (g) of this AD before the accumulation of 5,000 total landings on the fuse pin or within 5 years, whichever is first. Repeat the inspections at least every 3,000 landings or 5 years, whichever is first, except as required by paragraph (n) of this AD. Accomplishing the inspection required by paragraph (n) of this AD terminates the repetitive inspections required by this paragraph.

Optional Terminating Action

(j) For all airplanes: Accomplishment of the rework of the side load fitting and tension fasteners, as applicable, and replacement of midspar fuse pins per Boeing Service Bulletin 767-54-0069, dated October 9, 1997; Revision 1, dated January 29, 1998; or Revision 2, dated August 31, 2000; ends the repetitive inspections required by this AD.

(k) Modification of the nacelle strut and wing structure as required by AD 2000-19-09, amendment 39-11910 (applicable to certain Model 767 series airplanes powered by Rolls-Royce RB211 series engines); AD 2001-02-07, amendment 39-12091 (applicable to certain Model 767 series airplanes powered by Pratt & Whitney engines); or AD 2001-06-12, amendment 39-12159 (applicable to certain Model 767 series airplanes powered by General Electric engines); as applicable; ends the repetitive inspections required by this AD.

“Operator's Equivalent Procedure”

(l) Although Boeing Alert Service Bulletin 767-54A0062, Revision 5, dated November 11, 2002, specifies that an “operator's equivalent procedure” may be used for all actions for which the Boeing 767 Airplane Maintenance Manual (AMM) is specified as the appropriate source of service information, this AD requires those actions to be done in accordance with Boeing Alert Service Bulletin 767-54A0062, Revision 5, dated November 11, 2002.

Actions Done per Previously Issued Service Information

(m) Inspections and replacements done before February 13, 2003, per Boeing Alert Service Bulletin 767-54A0062, Revision 1, dated May 11, 1994; Revision 2, dated December 21, 1994; Revision 3, dated June 15, 1995; or Revision 4, dated May 7, 1998; are acceptable for compliance with the applicable actions specified in this AD.

New Requirements of This AD

Reduced Repetitive Inspection Intervals

(n) For airplanes on which any inspection required by paragraphs (g) and (i) of this AD has been done: Do the inspections specified in paragraph (p) of this AD at the earlier of the times specified in paragraphs (n)(1) and (n)(2) of this AD. Repeat the inspection thereafter at intervals not to exceed 2,000 flight cycles or 2 years, whichever occurs first, except as provided by paragraph (o) of this AD. Accomplishing this paragraph terminates the repetitive inspection requirements of paragraphs (g) and (i) of this AD.

(1) At the later of the times specified in paragraphs (n)(1)(i) and (n)(1)(ii) of this AD.

(i) Within 2,000 flight cycles or 2 years after the last inspection done in accordance with paragraph (g) of this AD, whichever occurs first.

(ii) Within 30 days after the effective date of this AD.

(2) Within 3,000 flight cycles or 5 years, whichever occurs first after the last inspection done in accordance with paragraph (g) of this AD.

(o) For airplanes identified in paragraph (g) of this AD and on which a new or serviceable midspar fuse pin is installed on or after the effective date of this AD: Do the inspections specified in paragraph (p) of this AD before the accumulation of 5,000 total flight cycles on the midspar fuse pin or within 5 years after the installation of the new midspar fuse pin, whichever occurs first. Repeat the inspections thereafter at the times specified in paragraph (n) of this AD.

Inspection and Related Corrective and Investigative Actions

(p) At the applicable times specified in paragraphs (n) and (o) of this AD: Do a detailed inspection of the midspar fuse pin for cracking and corrosion; and do all applicable actions specified in paragraphs (p)(1) through (p)(4) of this AD, in accordance with the Accomplishment Instructions of Boeing Alert Service Bulletin 767-54A0062, Revision 6, dated November 5, 2009. As an option during accomplishment of the requirements of paragraphs (p)(1) through (p)(4) of this AD, the inspected midspar fuse pin may be replaced with a new or serviceable fuse pin in accordance with the Accomplishment Instructions of Boeing Alert Service Bulletin 767-54A0062, Revision 6, dated November 5, 2009, and the inspection repeated at the time specified in paragraph (o) of this AD.

(1) If no crack and no corrosion is found during the detailed inspection, before further flight, do an eddy current inspection (ECI) for any cracking, and before further flight, do the applicable actions specified in paragraphs (p)(1)(i) through (p)(1)(iii) of this AD.

(i) If no crack is found during the on-wing ECI, do Part 5, “Fuse Pin Secondary Retention Hardware Installation,” of the Work Instructions of Boeing Alert Service Bulletin 767-54A0062, Revision 6, dated November 5, 2009.

(ii) If no crack is found during off-wing ECI, reinstall the fuse pin.

(iii) If any crack is found during the ECI, do a magnetic particle inspection (MPI) in accordance with Part 4, “Magnetic Particle Inspection of the Midspar Fuse Pin for Any Crack,” of the Work Instructions of Boeing Alert Service Bulletin 767-54A0062, Revision 6, dated November 5, 2009.

(A) If no crack is found during the MPI, reinstall the fuse pin.

(B) If any crack is found during the MPI, do Part 3, “Midspar Fuse Pin Replacement,” of the Work Instructions of Boeing Alert Service Bulletin 767-54A0062, Revision 6, dated November 5, 2009.

(2) If any crack is found during the detailed inspection, before further flight, do Part 3, “Midspar Fuse Pin Replacement,” of the Work Instructions of Boeing Alert Service Bulletin 767-54A0062, Revision 6, dated November 5, 2009.

(3) If, during the detailed inspection, no crack is found, and corrosion is found only on a non-critical surface as defined in Appendix A of Boeing Alert Service Bulletin 767-54A0062, Revision 6, dated November 5, 2009, before further flight, rework the fuse pin to remove the corrosion, and do the applicable actions specified in paragraphs (p)(3)(i) and (p)(3)(ii) of this AD.

(i) If all the corrosion is removed and the fuse pin is still serviceable, as specified in Boeing Alert Service Bulletin 767-54A0062, Revision 6, dated November 5, 2009: Do an ECI in accordance with Figure 3 (on-wing) or Figure 4 (off-wing) of Boeing Alert Service Bulletin 767-54A0062, Revision 6, dated November 5, 2009, or MPI in accordance with Part 4, “Magnetic Particle Inspection of the Midspar Fuse Pin for Any Crack,” of the Work Instructions of Boeing Alert Service Bulletin 767-54A0062, Revision 6, dated November 5, 2009.

(A) If no crack was found during the on-wing ECI, do Part 5, “Fuse Pin Secondary Retention Hardware Installation,” of the Work Instructions of Boeing Alert Service Bulletin 767-54A0062, Revision 6, dated November 5, 2009.

(B) If no crack was found during the off-wing ECI, install the fuse pin.

(C) If any crack was found during either on-wing or off-wing ECI, do Part 4, “Magnetic Particle Inspection of the Midspar Fuse Pin for Any Crack,” of the Work Instructions of Boeing Alert Service Bulletin 767-54A0062, Revision 6, dated November 5, 2009.

(D) If the MPI is accomplished and no crack was found, reinstall the fuse pin.

(E) If the MPI is accomplished, and any cracking was found, do Part 3, “Midspar Fuse Pin Replacement,” of the Work Instructions of Boeing Alert Service Bulletin 767-54A0062, Revision 6, dated November 5, 2009.

(ii) If the corrosion cannot be completely removed or if removing all the corrosion makes the fuse pin unserviceable, do Part 3, “Midspar Fuse Pin Replacement,” of the Work Instructions of Boeing Alert Service Bulletin 767-54A0062, Revision 6, dated November 5, 2009.

(4) If, during the detailed inspection, no crack is found, and any corrosion found is on a critical surface as defined in Appendix A of Boeing Alert Service Bulletin 767-54A0062, Revision 6, dated November 5, 2009, before further flight, do an ECI and do the applicable actions specified in paragraphs (p)(4)(i) and (p)(4)(ii) of this AD.

(i) If no crack is found during the ECI, repair in accordance with the procedures specified in paragraph (r) of this AD.

(ii) If any crack is found during the ECI, do an MPI in accordance with Part 6, “Magnetic Particle Inspection of the Midspar Fuse Pin for Any Crack Prior to Repair,” of the Work Instructions of Boeing Alert Service Bulletin 767-54A0062, Revision 6, dated November 5, 2009.

(A) If no crack is found during the MPI, repair in accordance with the procedures specified in paragraph (r) of this AD.

(B) If any crack is found during the MPI, do Part 3, “Midspar Fuse Pin Replacement,” of the Work Instructions of Boeing Alert Service Bulletin 767-54A0062, Revision 6, dated November 5, 2009.

Special Flight Permit

(q) Special flight permits may be issued in accordance with sections 21.197 and 21.199 of the Federal Aviation Regulations (14 CFR 21.197 and 21.199) to operate the airplane to a location where corrective action can be accomplished, provided that the conditions in paragraphs (q)(1), (q)(2), and (q)(3) of this AD are met.

(1) Airplanes have zero or one midspar fuse pin per wing having any of the inspection results or corrosion conditions detailed in paragraphs (q)(1)(i) through (q)(1)(ix) of this AD.

(i) Crack is found by detailed inspection (Condition 1 in Table 1 of paragraph 1.E., “Compliance,” of Boeing Alert Service Bulletin 767-54A0062, Revision 6, dated November 5, 2009).

(ii) No crack is found, and any corrosion found is on non-critical surface (Condition 2 in Table 1 of paragraph 1.E., “Compliance,” of Boeing Alert Service Bulletin 767-54A0062, Revision 6, dated November 5, 2009).

(iii) Any corrosion found is removed (Condition 2.1 in Table 1 of paragraph 1.E., “Compliance,” of Boeing Alert Service Bulletin 767-54A0062, Revision 6, dated November 5, 2009).

(iv) Any crack is found during an ECI required by paragraph (p)(3)(i) of this AD and cannot be refuted (or proved false) by an MPI required by paragraph (p)(3)(i)(C) of this AD (Condition 2.1.1 in Table 1 of paragraph 1.E., “Compliance,” of Boeing Alert Service Bulletin 767-54A0062, Revision 6, dated November 5, 2009).

(v) Any crack is found by MPI (Condition 2.1.3 in Table 1 of paragraph 1.E., “Compliance,” of Boeing Alert Service Bulletin 767-54A0062, Revision 6, dated November 5, 2009).

(vi) Any corrosion found is not removed (Condition 2.2 in Table 1 of paragraph 1.E., “Compliance,” of Boeing Alert Service Bulletin 767-54A0062, Revision 6, dated November 5, 2009).

(vii) Crack is found by detailed inspection (Condition 3 in Table 1 of paragraph 1.E., “Compliance,” of Boeing Alert Service Bulletin 767-54A0062, Revision 6, dated November 5, 2009).

(viii) Any crack is found during an ECI required by paragraph (p)(4) of this AD (Condition 3.1 in Table 1 of paragraph 1.E., “Compliance,” of Boeing Alert Service Bulletin 767-54A0062, Revision 6, dated November 5, 2009).

(ix) No crack is found during an ECI required by paragraph (p)(4) of this AD (Condition 3.2 in Table 1 of paragraph 1.E., “Compliance,” of Boeing Alert Service Bulletin 767-54A0062, Revision 6, dated November 5, 2009).

(2) An additional ECI of both midspar fuse pins on each wing for any cracking is done and verifying that the airplane meets the criteria specified in paragraph (q)(1) of this AD.

(3) A detailed inspection of the other strut-to-wing load paths (including the upper link, upper link fuse pin, diagonal brace, and lower diagonal brace fuse pin) for any cracking is done.

Alternative Methods of Compliance (AMOCs)

(r)(1) The Manager, Seattle ACO, FAA, has the authority to approve AMOCs for this AD, if requested using the procedures found in 14 CFR 39.19. Send information to ATTN: Berhane Alazar, Aerospace Engineer, Airframe Branch, ANM-120S, FAA, Seattle Aircraft Certification Office, 1601 Lind Avenue, SW., Renton, Washington 98057-3356; telephone (425) 917-6577; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane.

(4) Alternative methods of compliance, approved previously in accordance with AD 2003-03-02, for the actions specified in paragraph (i) of that AD, are approved as alternative methods of compliance with paragraph (h) of this AD.

Material Incorporated by Reference

(s) You must use Boeing Alert Service Bulletin 767-54A0062, Revision 6, dated November 5, 2009, to do the actions required by this AD, unless the AD specifies otherwise. If you accomplish the optional actions specified by this AD, you must use the service information specified in Table 1 of this AD to do those actions, unless the AD specifies otherwise.

Table 1—Material Incorporated by Reference for Optional Terminating Action in This AD
Boeing Service Bulletin— | Revision— | Dated—
767-54-0069 | Original | October 9, 1997.
767-54-0069 | 1 | January 29, 1998.
767-54-0069 | 2 | August 31, 2000.

(1) The Director of the Federal Register approved the incorporation by reference of Boeing Alert Service Bulletin 767-54A0062, Revision 6, dated November 5, 2009; and Boeing Service Bulletin 767-54-0069, dated October 9, 1997; under 5 U.S.C. 552(a) and 1 CFR part 51.

(2) The Director of the Federal Register previously approved the incorporation by reference of Boeing Service Bulletin 767-57-0069, Revision 2, dated August 31, 2000, on March 5, 2001 (66 FR 8085, January 29, 2001).

(3) The Director of the Federal Register previously approved the incorporation by reference of Boeing Service Bulletin 767-54-0069, Revision 1, dated January 29, 1998, on October 17, 2000 (65 FR 58641, October 2, 2000).

(4) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(5) You may review copies of the service information at the FAA, Transport Airplane Directorate, 1601 Lind Avenue, SW., Renton, Washington. For information on the availability of this material at the FAA, call 425-227-1221 or 425-227-1152.

(6) You may also review copies of the service information that is incorporated by reference at the National Archives and Records Administration (NARA). For information on the availability of this material at NARA, call 202-741-6030, or go to: http://www.archives.gov/federal_register/code_of_federal_regulations/ibr_locations.html.

Issued in Renton, Washington, on January 22, 2010.
Ali Bahrami,
Manager, Transport Airplane Directorate, Aircraft Certification Service.

[FR Doc. 2010-2192 Filed 2-3-10; 8:45 am]

BILLING CODE 4910-13-P